DEPARTMENT OF COMMERCE

Foreign-Trade Zones Board

[S-71-2018]

Foreign-Trade Zone 50—Long Beach, California; Application for Subzone; VF Outdoor, LLC; Ontario, Santa Fe Springs and Corona, California

An application has been submitted to the Foreign-Trade Zones (FTZ) Board by the Port of Long Beach, California, grantee of FTZ 50, requesting subzone status for the facilities of VF Outdoor, LLC (VF), located in Ontario, Santa Fe Springs and Corona, California. The application was submitted pursuant to the provisions of the Foreign-Trade Zones Act, as amended (19 U.S.C. 81a-81u), and the regulations of the FTZ Board (15 CFR part 400). It was formally docketed on May 9, 2018.

The proposed subzone would consist of the following sites: Site 1 (13.55 acres) 3950 East Airport Drive, Ontario; Site 2 (22.09 acres) 15614-15620 and 15700 Shoemaker Avenue, Santa Fe Springs; and, Site 3 (11.5 acres) 2571 Sampson Avenue, Corona. No authorization for production activity has been requested at this time. Site 1 and Site 2 of the proposed subzone currently have FTZ designation (a portion of magnet Site 2 as well as usage-driven Site 19, respectively). This request would combine the space that already has FTZ designation at proposed Sites 1 and 2 and the space at proposed Site 3 into one subzone for VF. The proposed subzone would be subject to the existing activation limit of FTZ 50.

In accordance with the FTZ Board's regulations, Christopher Kemp of the FTZ Staff is designated examiner to review the application and make recommendations to the Executive Secretary.

Public comment is invited from interested parties. Submissions shall be addressed to the FTZ Board's Executive Secretary at the address below. The closing period for their receipt is June 25, 2018. Rebuttal comments in response to material submitted during the foregoing period may be submitted during the subsequent 15-day period to July 9, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Christopher Kemp at Christopher.Kemp@trade.gov or (202) 482-0862.

Dated: May 9, 2018.
Andrew McGilvray,
Executive Secretary.

[FR Doc. 2018-10325 Filed 5-14-18; 8:45 am]

BILLING CODE 3510-DS-P